DEPARTMENT OF THE INTERIOR

National Park Service

[NPS-WASO-COMP-NPS0027447; PPWOCOPP0, PPMPSD1YM0000 (199); OMB Control Number 1024-0279]

Agency Information Collection Activities; National Park Service Lost and Found Report

AGENCY: National Park Service, Interior.

ACTION: Notice of information collection; request for comment.

SUMMARY: In accordance with the Paperwork Reduction Act of 1995, we, the National Park Service (NPS), are proposing to renew an information collection.

DATES: Interested persons are invited to submit comments on or before December 3, 2019.

ADDRESSES: Send your comments on this information collection request (ICR) by mail to Phadrea Ponds, Information Collection Clearance Officer, National Park Service, 1201 Oakridge Drive, Fort Collins, CO 80525; or by email at phadrea_ponds@nps.gov, or by telephone at 970-267-7213. Please reference OMB Control Number 1024-0279 in the subject line of your comments.

FOR FURTHER INFORMATION CONTACT: To request additional information about this ICR by mail, contact Marlene Haynes, Acting Bureau Office of Property and Fleet Management, National Park Service, 13461 Sunrise Valley Drive, Herndon, VA 20171-3272; or by email at marlene_haynes@nps.gov; or by telephone at 703-487-9311. Please reference OMB Control Number 1024-0279 in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Each year, more than 7,000 visitors to the various units of the National Park System file reports of lost or found items. Reporting of lost or found personal property in national parks is governed by 36 CFR 2.22, “Disposition of Property” which requires unattended property be impounded and deemed to be abandoned unless claimed by the owner or an authorized representative within 60 days. The 60-day period commences upon notification to the rightful owner of the property, if the owner can be identified, or from the time the property was placed in the superintendent's custody, if the owner cannot be identified.

Unclaimed property must be stored for a minimum period of 60 days and, unless claimed by the owner or an authorized representative, may be claimed by the finder, provided the finder is not an employee of the NPS. Found property not claimed by the owner, an authorized representative of the owner, or the finder, shall be deemed abandoned and disposed of in accordance with Title 41 Code of Federal Regulations.

In order to comply with the requirements of 36 CFR 2.22, the NPS uses NPS Form 10-166, “Lost-Found Report,” to allow the park to properly identify personal property reported as lost or found and to return found items to the legitimate owner, when possible, or to the finder if the item is not claimed by the owner or their authorized representative. NPS Form 10-166 collects the following information from the visitor filing the report:

• Park name, receiving station (if appropriate), and date item was lost or found;

• Name, address, city, state, zip code, email address, and contact phone numbers (cell and home);

• Type of item, detailed description of item, and location where the item was last seen or found; and

• Photograph of item (if available).

Title of Collection: National Park Service Lost and Found Report.

OMB Control Number: 1024-0279.

Form Number: NPS Form 10-166.

Type of Review: Extension of a currently approved collection.

Description of Respondents: Visitors of NPS units who file reports of lost or found items.

Total Estimated Number of Annual Respondents: 7,500.

Total Estimated Number of Annual Responses: 7,500.

Estimated Completion Time per Response: 5 minutes.

Total Estimated Number of Annual Burden Hours: 625.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2019-21681 Filed 10-3-19; 8:45 am]

BILLING CODE 4312-52-P